DEPARTMENT OF LABOR

Employment and Training Administration

[TA-W-54,416]

Plastic Components, Inc., Germantown, WI; Notice of Termination of Investigation

Pursuant to section 221 of the Trade Act of 1974, an investigation was initiated on March 3, 2004, in response to a worker petition which was filed on behalf of workers at Plastic Components, Inc., Germantown, Wisconsin.

The petitioners have requested that the petition be withdrawn. Consequently, the investigation has been terminated.

Signed in Washington, DC this 2nd day of April, 2004.
Richard Church,
Certifying Officer, Division of Trade Adjustment Assistance.

[FR Doc. E4-1001 Filed 5-3-04; 8:45 am]

BILLING CODE 4510-13-P